EXPORT-IMPORT BANK

Economic Impact Policy

Correction

In notice document E7-9803 appearing on page 28694 in the issue of Tuesday, May 22, 2007 make the following correction:

In the first column, in the first paragraph, in the fifth line, “$54 in” should read “$54 million in”.

[FR Doc. Z7-9803 Filed 6-11-07; 8:45 am]

BILLING CODE 1505-01-D